DEPARTMENT OF AGRICULTURE

Forest Service

Shasta County Resource Advisory Committee (RAC)

AGENCY: Forest Service, USDA.

ACTION: Notice of meeting.

SUMMARY: The Shasta County Resource Advisory Committee (RAC) will meet on January 9, 2001 in Redding, California. The purpose of the meeting is to discuss the selection of Title II projects under Public Law 106-393, H.R. 2389, the Secure Rural Schools and Community Self-Determination Act of 2000, also called the “Payments to States” Act.

DATES: The meeting will be held on January 9, 2002 from 8 a.m. to 12 p.m.

ADDRESSES: The meeting will be held at the Shasta-Trinity National Forest Headquarters Conference Room, 2400 Washington Ave., Redding, California.

FOR FURTHER INFORMATION CONTACT: Jim Pena, Designated Federal Official, USDA, Shasta-Trinity National Forest, 2400 Washington Ave., Redding, CA 96001. Phone: (530) 242-2201. E-mail: jpena@fs.fed.us.

SUPPLEMENTARY INFORMATION: This will be the second meting of the committee, and will focus on developing an overall strategy for selecting Title II projects. The meeting is open to the public. Public input opportunity will be provided and individuals will have the opportunity to address the committee at that time.

Dated: December 4, 2001.
J. Sharon Heywood,
Forest Supervisor.

[FR Doc. 01-30643 Filed 12-11-01; 8:45 am]

BILLING CODE 3410-11-M